DEPARTMENT OF ENERGY

Federal Energy Regulatory Commission

[Docket No. CP02-17-004, et al.]

Texas Eastern Transmission, LP; Notice of Compliance Filing

January 29, 2003.

Take notice that on December 31, 2002, Texas Eastern Transmission, LP (Texas Eastern) tendered for filing as part of its FERC Gas Tariff, Seventh Revised Volume No. 1, the following tariff sheet to be effective February 1, 2003.

Second Revised Sheet No. 51B

Texas Eastern states that the purpose of this filing is to comply with the Commission's letter order issued on October 31, 2002 in Docket Nos. CP02-17-002 and CP02-45-002 (October 31 Order). Texas Eastern states that the October 31 Order accepted initial rates for Texas Eastern's Hanging Rock Lateral to become effective on the later of November 1, 2002 or the in-service date of the Hanging Rock Lateral.

Texas Eastern states that the Hanging Rock Lateral is expected to commence service on February 1, 2003. Texas Eastern states that the instant filing is being made to reflect the rates for service on the Hanging Rock Lateral, effective on the February 1, 2003 in-service date as provided in the October 31 Order.

Texas Eastern states that copies of its filing have been mailed to all affected customers of Texas Eastern, interested state commissions, and all parties listed on the Official Service Lists compiled by the Secretary of the Commission in these proceedings.

Any person desiring to protest said filing should file a protest with the Federal Energy Regulatory Commission, 888 First Street, NE., Washington, DC 20426, in accordance with Section 385.211 of the Commission's Rules and Regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 5, 2003.

Magalie R. Salas,
Secretary.

[FR Doc. 03-2872 Filed 2-5-03; 8:45 am]

BILLING CODE 6717-01-P